DEPARTMENT OF ENERGY

Federal Energy Regulatory Commission

Combined Notice of Filings #1

Take notice that the Commission received the following electric rate filings:

Docket Numbers: ER98-2494-016; ER03-179-012; ER01-838-012; ER10-256-003; ER03-1025-008; ER07-1157-008; ER09-1297-004; ER07-875-007; ER09-832-011.

Applicants: ESI Vansycle Partners, L.P., FPL Energy New Mexico Wind, LLC, FPL Energy Stateline II, Inc., FPL Energy Vansycle, L.L.C., FPL Energy Wyoming, LLC, Logan Wind Energy LLC, Northern Colorado Wind Energy, LLC, Peetz Table Energy, LLC, NextEtra Energy Power Marketing, LLC.

Description: NextEra Companies Clarification Regarding the Northwest Triennial Market Power Update.

Filed Date: 09/06/2011.

Accession Number: 20110906-5175.

Comment Date: 5 p.m. Eastern Time on Tuesday, September 27, 2011.

Docket Numbers: ER11-3312-001.

Applicants: New York Independent System Operator, Inc.

Description: New York Independent System Operator, Inc. submits tariff filing per 35: Compliance Filing re: Data Sharing Framework to be effective 6/5/2011.

Filed Date: 09/12/2011.

Accession Number: 20110912-5117.

Comment Date: 5 p.m. Eastern Time on Monday, October 03, 2011.

Docket Numbers: ER11-3650-002.

Applicants: Southwest Power Pool, Inc.

Description: Southwest Power Pool, Inc. submits tariff filing per 35.17(b): Second Amendment to 607R13 Westar Energy, Inc. NITSA NOA to be effective 5/1/2011.

Filed Date: 09/12/2011.

Accession Number: 20110912-5178.

Comment Date: 5 p.m. Eastern Time on Monday, October 03, 2011.

Docket Numbers: ER11-4339-001.

Applicants: ENBALA Power Networks (USA), Inc.

Description: ENBALA Power Networks (USA), Inc. submits tariff filing per 35.17(b): Amended ENBALA Power Networks &#40;USA&#41; Inc. MBR to be effective 11/1/2011.

Filed Date: 09/12/2011.

Accession Number: 20110912-5219.

Comment Date: 5 p.m. Eastern Time on Monday, October 03, 2011.

Docket Numbers: ER11-4504-000.

Applicants: Portland General Electric Company.

Description: Portland General Electric Company submits its Average System Cost filing for sales of electric power to the Bonneville Power Administration pursuant to Part 35 of the Commission's regulations.

Filed Date: 09/12/2011.

Accession Number: 20110912-0202.

Comment Date: 5 p.m. Eastern Time on Monday, October 03, 2011.

Docket Numbers: ER11-4505-000.

Applicants: Backyard Farms Energy LLC.

Description: Backyard Farms Energy LLC submits tariff filing per 35.1: Baseline to be effective 9/12/2011.

Filed Date: 09/12/2011.

Accession Number: 20110912-5199.

Comment Date: 5 p.m. Eastern Time on Monday, October 03, 2011.

Docket Numbers: ER11-4506-000.

Applicants: Devonshire Energy LLC.

Description: Devonshire Energy LLC submits tariff filing per 35.1: Baseline to be effective 9/12/2011.

Filed Date: 09/12/2011.

Accession Number: 20110912-5213.

Comment Date: 5 p.m. Eastern Time on Monday, October 03, 2011.

Docket Numbers: ER11-4507-000.

Applicants: Canastota Windpower, LLC.

Description: Canastota Windpower, LLC submits tariff filing per 35.1: Canastota Windpower, LLC MBR Tariff to be effective 10/20/2001.

Filed Date: 09/12/2011.

Accession Number: 20110912-5220.

Comment Date: 5 p.m. Eastern Time on Monday, October 03, 2011.

Take notice that the Commission received the following public utility holding company filings:

Docket Numbers: PH11-20-000.

Applicants: GGCP, Inc.

Description: FERC-65A Exemption Notification of Status as Passive Investors of GGCP, Inc.

Filed Date: 09/12/2011.

Accession Number: 20110912-5222.

Comment Date: 5 p.m. Eastern Time on Monday, October 03, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2011.
Nathaniel J. Davis, Sr.,
Deputy Secretary.

[FR Doc. 2011-24053 Filed 9-19-11; 8:45 am]

BILLING CODE 6717-01-P